DEPARTMENT OF THE INTERIOR

Bureau of Land Management

[ES-020-04-1320-EL]

Notice of the Solicitation of Public Comments on Fair Market Value and Maximum Economic Recovery; Coal Lease by Application KYES-51002

AGENCY: Bureau of Land Management, Interior.

ACTION: Notice.

SUMMARY: The United States Department of Agriculture Forest Service, Daniel Boone National Forest, has prepared an Environmental Impact Statement (EIS) to address coal lease application KYES-51002. The EIS has been prepared in cooperation with the Bureau of Land Management's (BLM) Eastern States, Jackson Field Office, the Office of Surface Mining and the Kentucky Department of Surface Mining Reclamation and Enforcement. A public hearing, requesting input to the EIS, was held on November 24, 2003, at the Leslie County Extension Services office in Hyden, Kentucky.

Public comments are requested on the fair market value (FMV) and maximum economic recovery (MER) of the tracts included in the lease application to be offered for competitive lease sale. The coal in the tracts would be mined by conventional underground methods. The tracts, designated 3094Az, 3094Bb, and 3094Be in the National Forest System, are located in southern Leslie County on the Daniel Boone National Forest, Kentucky and encompass 1,210.4 acres. Estimated recoverable federal reserves of bituminous coal from the Hazard No. 4 and Hazard No. 4A seams are 2.832 million tons. The proximate analysis of the coal on a received basis averages 12,757 BTU/lb. with 6.3% moisture, 1.1% sulfur, 9.4% ash, 50.6% fixed carbon, and 32.6% volatile matter.

The public is invited to comment on the FMV and MER of the tracts proposed to be offered for lease and on factors that may affect FMV and MER.

DATES: Written comments must be post-marked by January 13, 2005, and provided to the below address.

ADDRESSES: Written comments must be provided to the Bureau of Land Management, Jackson Field Office, 411 Briarwood, Suite 404; Jackson, MS 39206.

FOR FURTHER INFORMATION CONTACT: Stuart Grange, Bureau of Land Management, Jackson, Mississippi at (601) 977-5400.

SUPPLEMENTARY INFORMATION: Procedures for leasing Federal coal are provided by 43 CFR parts 1600 and 3400. The revised notice of intent for coal leasing beneath the Daniel Boone National Forest in Leslie County, Kentucky was published in the Federal Register on September 18, 2003 (Volume 68, Number 181; pages 54706-54707). This notice to solicit public comments on FMV and MER are required by 43 CFR 3422.1 and 43 CFR 3425.3.

As provided by 43 CFR 3422.1(a), proprietary data marked as confidential may be provided in response to this solicitation of public comments. Data so marked shall be treated in accordance with the laws and regulations governing the confidentiality of such information. A copy of the comments submitted by the public on FMV and MER, except those portions identified as proprietary and meeting exemptions stated in the Freedom of Information Act (FOIA), will be available for public inspection at the Bureau of Land Management office noted above.

Comments on FMV and MER should address, but are not limited to the following factors:

1. The method of mining to be employed in order to obtain MER;

2. The method of determining FMV for the coal to be offered;

3. The quality and quantity of the coal resource;

4. If this resource is likely to be mined as part of an existing mine; and

5. Restrictions to mining which may affect coal recovery; The values given above may or may not change as a result of comments received from the public and changes in market conditions between now and when final economic evaluations are completed.

If you wish to withhold your name or address from public review or from disclosure under the FOIA, you must state this prominently at the beginning of your written comments. Such requests will be honored to the extent allowed by the FOIA. All submissions from organizations, businesses and individuals identifying themselves as representatives or officials of organizations or businesses will be available for public inspection in its entirety.

Bruce Dawson,
Field Manager, Jackson Field Office.

[FR Doc. 04-27298 Filed 12-13-04; 8:45 am]

BILLING CODE 4310-55-P